DEPARTMENT OF COMMERCE

National Oceanic and Atmospheric Administration

RIN 0648-XD583

New England Fishery Management Council; Public Meetings

AGENCY: National Marine Fisheries Service (NMFS), National Oceanic and Atmospheric Administration (NOAA), Commerce.

ACTION: Notice; public meetings.

SUMMARY: The New England Fishery Management Council (Council) is scheduling a public meeting of its Groundfish Committee to consider actions affecting New England fisheries in the exclusive economic zone (EEZ). Recommendations from this group will be brought to the full Council for formal consideration and action, if appropriate.

DATES: The meetings will be held on Wednesday, November 12, 2014 at 9 a.m. and Thursday, November 13, 2014 at 9 a.m.

ADDRESSES: The meetings will be held at the Four Points by Sheraton, 407 Squire Road Revere, MA 02151; telephone: (781) 284-7200; fax: (781) 289-3176.

Council address: New England Fishery Management Council, 50 Water Street Mill 2, Newburyport, MA 01950.

FOR FURTHER INFORMATION CONTACT: Thomas A. Nies, Executive Director, New England Fishery Management Council; telephone: (978) 465-0492.

SUPPLEMENTARY INFORMATION: The committee will discuss Framework 53 (FW53), specifically, status changes (Gulf of Maine (GOM) haddock) and specifications for groundfish stocks (GOM cod and haddock; GOM and Georges Bank (GB) winter flounder; pollock; GB yellowtail flounder, cod and haddock). They will also discuss the management measures (windowpane flounder sub-annual catch limit (ACLs) and accountability measures (AMs), expansion of the GOM cod inshore spawning closure, additional management measures for GOM cod, roll-over provision for specifications, and carryover provisions). Additionally, the committee will review the Groundfish Plan Development Team's (PDT) environmental impact analysis. They will also develop committee recommendations to the council regarding preferred alternative in FW 53. They will discuss other business as necessary.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Thomas A. Nies, Executive Director, at (978) 465-0492, at least 5 days prior to the meeting date.

Authority: 16 U.S.C. 1801 et seq.

Dated: October 21, 2014.
Tracey L. Thompson,
Acting Deputy Director, Office of Sustainable Fisheries, National Marine Fisheries Service.

[FR Doc. 2014-25369 Filed 10-24-14; 8:45 am]

BILLING CODE 3510-22-P